DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its collection, titled Portfolio Analysis and Management System, OMB Control Number 1910-5178. The proposed collection streamlines the submission, tracking, and correspondence portions of financial award pre-review processes. The information collected is used by the DOE to select applicants and projects for financial awards.

DATES: Comments regarding this collection must be received on or before November 4, 2022. If you anticipate that you will be submitting comments but find it difficult to do so within the period allowed by this notice, please advise the OMB Desk Officer of your intention to submit them as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or using the search function.

FOR FURTHER INFORMATION CONTACT: Courtney Bracey, Office of Information Science Management (SC-43), Office of Science, Department of Energy, GTN Building/E-180, 1000 Independence Avenue SW, Washington, DC 20585, Direct: (301) 903-1844 or by email at Courtney.Bracey@science.doe.gov.

SUPPLEMENTARY INFORMATION: This information collection request contains:

(1) OMB No.: 1910-5178.

(2) Information Collection Request Title: Portfolio Analysis and Management System.

(3) Type of Request: Extension.

(4) Purpose: This existing collection is based on the Health Resources and Services Administration (HRSA) Electronic Handbooks software. Discretionary financial assistance proposals continue to be collected using Grants.gov but are imported into PAMS for use by the program offices. Under the existing information collection, an external interface in PAMS allows two other types of proposal submission: DOE National Laboratories can submit proposals for technical work authorizations directly into PAMS, while other Federal agencies will be able to submit proposals for interagency awards directly into PAMS. External users from all institution types can submit Solicitation Letters of Intent and Pre-proposals directly into PAMS. All applicants, whether they submitted through Grants.gov or PAMS, can register with PAMS to view the submitted proposals. They also can maintain a minimal amount of information in their personal profile. The existing collection automates and streamlines the submission, tracking, and correspondence portions of financial award pre-review processes. The information collected is used by DOE to select applicants and projects for financial awards.

(5) Annual Estimated Number of Respondents: 35,365.

(6) Annual Estimated Number of Total Responses: 35,365.

(7) Annual Estimated Number of Burden Hours: 46,441.

(8) Annual Estimated Reporting and Recordkeeping Cost Burden: $5,051,772.

Statutory Authority: Section 641 of the Department of Energy Organization Act, codified at 42 U.S.C. 7251.

Signing Authority

This document of the Department of Energy was signed on September 29, 2022, by Asmeret Asefaw Berhe, Director, Office of Science, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 30, 2022.
Treena V. Garrett,
Federal Register Liaison Officer, U.S. Department of Energy.

[FR Doc. 2022-21608 Filed 10-4-22; 8:45 am]

BILLING CODE 6450-01-P